Title 3—

The President

Executive Order 13761 of January 13, 2017

Recognizing Positive Actions by the Government of Sudan and Providing for the Revocation of Certain Sudan-Related Sanctions

By the authority vested in me as President by the Constitution and the laws of the United States of America, including the International Emergency Economic Powers Act (50 U.S.C. 1701 et seq.), the National Emergencies Act (50 U.S.C. 1601 et seq.), the Trade Sanctions Reform and Export Enhancement Act of 2000 (22 U.S.C. 7201-7211) (TSRA), the Comprehensive Peace in Sudan Act of 2004, as amended (Public Law 108-497) (CPSA), the Darfur Peace and Accountability Act of 2006 (Public Law 109-344) (DPAA), and section 301 of title 3, United States Code,

I, BARACK OBAMA, President of the United States of America, find that the situation that gave rise to the actions taken in Executive Order 13067 of November 3, 1997, and Executive Order 13412 of October 13, 2006, related to the policies and actions of the Government of Sudan has been altered by Sudan's positive actions over the past 6 months. These actions include a marked reduction in offensive military activity, culminating in a pledge to maintain a cessation of hostilities in conflict areas in Sudan, and steps toward the improvement of humanitarian access throughout Sudan, as well as cooperation with the United States on addressing regional conflicts and the threat of terrorism. Given these developments, and in order to see these efforts sustained and enhanced by the Government of Sudan, I hereby order:

Section 1. Effective July 12, 2017 and provided the criteria in section 12(b) of this order are met, sections 1 and 2 of Executive Order 13067 of November 3, 1997, are revoked, and Executive Order 13412 of October 13, 2006, is revoked in its entirety. The revocation of those provisions of Executive Order 13067 and of Executive Order 13412 shall not affect any violation of any rules, regulations, orders, licenses, or other forms of administrative action under those orders during the period that those provisions were in effect.

Sec. 2. Pursuant to section 908(a)(3) of TSRA, I hereby determine that it is in the national security interest of the United States to waive, and hereby waive, the application of section 908(a)(1) of TSRA with respect to Sudan.

Sec. 3. Pursuant to section 6(d) of CPSA, I hereby determine and certify that it is in the national interest of the United States to waive, and hereby waive, the application of sections 6(a) and (b) of CPSA.

Sec. 4. The function of the President under section 6(c)(1) of CPSA is assigned to the Secretary of the Treasury.

Sec. 5. The functions of the President under section 6(c)(2) and the last sentence of section 6(d) of CPSA are assigned to the Secretary of State, except that the function of denial of entry is assigned to the Secretary of Homeland Security.

Sec. 6. The function of the President under section 8 of DPAA is assigned to the Secretary of State.

Sec. 7. The Secretary of the Treasury and the Secretary of Commerce are authorized to issue regulations, licenses, and orders, and conduct such investigations as may be necessary, to implement the provisions of section 906 of TSRA.

Sec. 8. This order is not intended to, and does not, otherwise affect the national emergency declared in Executive Order 13067 of November 3, 1997, as expanded in scope by Executive Order 13400 of April 26, 2006, which shall remain in place.

Sec. 9. This order is not intended to, and does not, create any right or benefit, substantive or procedural, enforceable at law or in equity by any party against the United States, its departments, agencies, or entities, its officers, employees, or agents, or any other person.

Sec. 10. On or before July 12, 2017, the Secretary of State, in consultation with the Secretary of the Treasury, the Director of National Intelligence, and the Administrator of the U.S. Agency for International Development, and based on a consideration of relevant and credible information from available sources, including nongovernmental organizations, shall provide to the President a report on whether the Government of Sudan has sustained the positive actions that gave rise to this order, including carrying out its pledge to maintain a cessation of hostilities in conflict areas in Sudan; continued improvement of humanitarian access throughout Sudan; and maintaining its cooperation with the United States on addressing regional conflicts and the threat of terrorism. As much of the report as possible, consistent with sources and methods, shall be unclassified and made public.

Sec. 11. (a) The Secretary of State, in consultation with the Secretary of the Treasury, the Director of National Intelligence, and the Administrator of the U.S. Agency for International Development, and based on a consideration of relevant and credible information from available sources, including nongovernmental organizations, shall provide to the President an updated version of the report required in section 10 of this order annually thereafter. As much of the report as possible, consistent with sources and methods, shall be unclassified and made public. To the extent a report concludes that the Government of Sudan has or has not sustained the positive actions that gave rise to this order, the Secretary of State, in consultation with the Secretary of the Treasury, the Director of National Intelligence, and the Administrator of the U.S. Agency for International Development, shall provide to the President recommendations on appropriate U.S. Government responses.

(b) Concurrent with the provision of the reports required in section 11(a) of this order, the Secretary of State, in consultation with the Secretary of the Treasury, the Director of National Intelligence, and the Administrator of the U.S. Agency for International Development, shall publish a notice in the Federal Register stating whether the Government of Sudan has sustained the positive actions that gave rise to this order.

Sec. 12. (a) This order is effective on January 13, 2017, except for sections 1, 4, 5, 6, and 7 of this order;

(b) Sections 1, 4, 5, 6, and 7 of this order are effective on July 12, 2017, provided that the Secretary of State, in consultation with the Secretary of the Treasury, the Director of National Intelligence, and the Administrator of the U.S. Agency for International Development, has published a notice in the Federal Register on or before that date, stating that the Government of Sudan has sustained the positive actions that gave rise to this order and that the Secretary of State has provided to the President the report described in section 10 of this order.

THE WHITE HOUSE,

January 13, 2017.

[FR Doc. 2017-01197

Filed 1-17-17; 8:45 am]

Billing code 3295-F7-P